DEPARTMENT OF TRANSPORTATION

Federal Aviation Administration

14 CFR Part 39

[Docket No. 2001-NM-314-AD; Amendment 39-13268; AD 2003-16-15]

RIN 2120-AA64

Airworthiness Directives; Airbus Model A300 B4-600, B4-600R, and F4-600R (Collectively Called A300-600) Series Airplanes, and Airbus Model A310 Series Airplanes

AGENCY: Federal Aviation Administration, DOT.

ACTION: Final rule.

SUMMARY: This amendment adopts a new airworthiness directive (AD), applicable to certain Airbus Model A300 B4-600, B4-600R, and F4-600R (collectively called A300-600) series airplanes, and Airbus Model A310 series airplanes. This AD requires replacement of Honeywell inertial reference units (IRU) with new or modified Honeywell IRUs. For certain airplanes, this proposal also would require replacement of Litton IRUs, mode selector units (MSU), and an inertial sensor display unit (ISDU) with new Honeywell IRUs, MSUs, and a new ISDU. This action is necessary to prevent loss of positioning data and a display of incorrect attitude data, which could compromise the ability of the flightcrew to maintain the safe flight and landing of the airplane. This action is intended to address the identified unsafe condition.

DATES: Effective September 22, 2003.

The incorporation by reference of certain publications listed in the regulations is approved by the Director of the Federal Register as of September 22, 2003.

ADDRESSES: The service information referenced in this AD may be obtained from Airbus Industrie, 1 Rond Point Maurice Bellonte, 31707 Blagnac Cedex, France. This information may be examined at the Federal Aviation Administration (FAA), Transport Airplane Directorate, Rules Docket, 1601 Lind Avenue, SW., Renton, Washington; or at the Office of the Federal Register, 800 North Capitol Street, NW., suite 700, Washington, DC.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION: A proposal to amend part 39 of the Federal Aviation Regulations (14 CFR part 39) to include an airworthiness directive (AD) that is applicable to certain Airbus Model A300 B4-600, B4-600R, and F4-600R (collectively called A300-600) series airplanes, and Airbus Model A310 series airplanes, was published in the Federal Register on May 29, 2003 (68 FR 31996). That action proposed to require replacement of Honeywell inertial reference units (IRU) with new or modified Honeywell IRUs. For certain airplanes, that action also proposed to require replacement of Litton IRUs, mode selector units (MSU), and an inertial sensor display unit (ISDU) with new Honeywell IRUs, MSUs, and a new ISDU.

Interested persons have been afforded an opportunity to participate in the making of this amendment. No comments were submitted in response to the proposal or the FAA's determination of the cost to the public.

Conclusion

The FAA has determined that air safety and the public interest require the adoption of the rule as proposed.

Changes to 14 CFR Part 39/Effect on the AD

On July 10, 2002, the FAA issued a new version of 14 CFR part 39 (67 FR 47997, July 22, 2002), which governs the FAA's airworthiness directives system. The regulation now includes material that relates to altered products, special flight permits, and alternative methods of compliance. However, for clarity and consistency in this final rule, we have retained the language of the NPRM regarding that material.

Change to Labor Rate Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

The FAA estimates that 89 Airbus Model A300-600 series airplanes of U.S. registry will be affected by this AD, that it will take approximately 3 work hours per airplane to accomplish the replacement of Honeywell IRUs with new or modified Honeywell IRUs, and that the average labor rate is $65 per work hour. Required parts will cost approximately $1,000 per airplane. Based on these figures, the cost impact of the AD on U.S. operators is estimated to be $106,355, or $1,195 per airplane.

The FAA estimates that 47 Airbus Model A310 series airplanes of U.S. registry will be affected by this AD, that it will take approximately 3 work hours per airplane to accomplish the replacement of Honeywell IRUs with new or modified Honeywell IRUs, and that the average labor rate is $65 per work hour. Required parts will cost approximately $1,000 per airplane. Based on these figures, the cost impact of the AD on U.S. operators is estimated to be $56,165, or $1,195 per airplane.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2003-16-15 Airbus: Amendment 39-13268. Docket 2001-NM-314-AD.

Applicability: The series airplanes, certificated in any category, listed in the following table:

Table—Applicability
Model— | Equipped with honeywell initial reference units having part number— | Excluding airplanes modified in accordance with—
A300 B4-600, A300 B4-600R, and A300 F4-600R (collectively called A300-600); and A310 | HG1050BD02 or HG1050BD05 | Airbus Modification 12304 in production; or Airbus Service Bulletin A300-34-6135, Revision 01, dated September 10, 2001 (for Model A300-600 series airplanes); or Airbus Service Bulletin A310-34-2158, Revision 01, dated September 10, 2001 (for A310 Model A310 series airplanes); as applicable.

Note 1: This AD applies to each airplane identified in the preceding applicability provision, regardless of whether it has been otherwise modified, altered, or repaired in the area subject to the requirements of this AD. For airplanes that have been modified, altered, or repaired so that the performance of the requirements of this AD is affected, the owner/operator must request approval for an alternative method of compliance in accordance with paragraph (f) of this AD. The request should include an assessment of the effect of the modification, alteration, or repair on the unsafe condition addressed by this AD; and, if the unsafe condition has not been eliminated, the request should include specific proposed actions to address it.

Compliance: Required as indicated, unless accomplished previously.

To prevent loss of positioning data and a display of incorrect attitude data to the flightcrew, which could compromise the ability of the flightcrew to maintain the safe flight and landing of the airplane, accomplish the following:

Replacement of Inertial Reference Units (IRU)

(a) Within 35 months after the effective date of this AD: Replace the existing Honeywell IRUs with new or modified Honeywell IRUs, per the Accomplishment Instructions specified in Airbus Service Bulletin A300-34-6135, Revision 01 (for Model A300 B4-600, A300 B4-600R, and A300-F4-600R (collectively called A300-600 series airplanes)); or Service Bulletin A310-34-2158, Revision 01 (for Model A310 series airplanes); both dated September 10, 2001; as applicable.

(b) Accomplishment of the replacement specified in Airbus Service Bulletin A300-34-6135 (for Model A300-600 series airplanes); or Service Bulletin A310-34-2158 (for Model A310 series airplanes); both dated March 9, 2001; as applicable; is acceptable for compliance with the replacement requirement of paragraph (a) of this AD.

Note 2: Airbus Service Bulletin A300-34-6135, Revision 01; and Airbus Service Bulletin A310-34-2158, Revision 01; both dated September 10, 2001; reference Honeywell Service Bulletin HG1050BD-34-0009, dated April 17, 2001; and Honeywell Service Bulletin HG1050BD-34-0010, Revision 001, dated April 16, 2001; as additional sources of service information for accomplishing the replacements required by this AD.

For Model A300-600 Series Airplanes: Concurrent Requirements

(c) For Model A300-600 series airplanes with manufacturer's serial numbers 0284, 0294, 0301, 0307, 0312, 0317, 0321, 0336, 0341, 0348, 0351, 0555, 0559, 0625, 0677, 0743, 0744, and 0749: Before or concurrently with the requirements of paragraph (a) of this AD, replace the Litton IRUs, mode selector units (MSU), and inertial sensor display unit (ISDU) with new Honeywell IRUs, MSUs, and a new ISDU, per Airbus Service Bulletin A300-34-6082, Revision 05, dated February 13, 1998. If this service bulletin is being performed concurrently with the requirements of paragraph (a) of this AD, the new or modified Honeywell IRUs required by paragraph (a) of this AD should be installed in lieu of the Honeywell part numbers listed in Revision 05 of Airbus Service Bulletin A300-34-6082.

For Model A310 Series Airplanes: Concurrent Requirements

(d) For the Model A310 airplane with manufacturer's serial number 0172: Before or concurrently with the requirements of paragraph (a) of this AD, replace the Litton IRUs, MSUs, and ISDU with new Honeywell IRUs, MSUs, and a new ISDU, per Airbus Service Bulletin A310-34-2104, dated May 12, 1995.

Parts Installation

(e) As of the effective date of this AD, no person shall install, on any airplane, any part listed in paragraphs (e)(1), (e)(2), or (e)(3) of this AD; as applicable.

(1) For Model A300-600 series airplanes and Model A310 series airplanes: Honeywell IRUs having part number HG1050BD02 or HG1050BD05.

(2) For Model A300-600 airplanes listed in paragraph (c) of this AD: Litton IRUs, MSUs, or ISDU having a part number identified in paragraph 3.A. of Airbus Service Bulletin A300-34-6082, Revision 05, dated February 13, 1998.

(3) For the Model A310 airplane listed in paragraph (d) of this AD: Litton IRUs having part number 4618000200-2201 or 461800-02-102; MSUs having part number 461630-02; and an ISDU having part number 461640-08-03.

Alternative Methods of Compliance

(f) An alternative method of compliance or adjustment of the compliance time that provides an acceptable level of safety may be used if approved by the Manager, International Branch, ANM-116, Transport Airplane Directorate, FAA. Operators shall submit their requests through an appropriate FAA Principal Avionics Inspector, who may add comments and then send it to the Manager, International Branch, ANM-116.

Note 3: Information concerning the existence of approved alternative methods of compliance with this AD, if any, may be obtained from the International Branch, ANM-116.

Special Flight Permits

(g) Special flight permits may be issued in accordance with sections 21.197 and 21.199 of the Federal Aviation Regulations (14 CFR 21.197 and 21.199) to operate the airplane to a location where the requirements of this AD can be accomplished.

Incorporation by Reference

(h) Unless otherwise specified in this AD, the actions shall be done in accordance with Airbus Service Bulletin A300-34-6135, Revision 01, dated September 10, 2001, and Airbus Service Bulletin A300-34-6082, Revision 05, dated February 13, 1998; or Airbus Service Bulletin A310-34-2158, Revision 01, dated September 10, 2001, and Airbus Service Bulletin A310-34-2104, dated May 12, 1995; as applicable. Airbus Service Bulletin A300-34-6082, Revision 05, dated February 13, 1998, contains the following list of effective pages:

Page Number | Revision level shown on page | Date shown on page
1, 2, 5 | 05 | February 13, 1998
3, 4 | 04 | October 10, 1997
7, 8 | 03 | May 14, 1997
6 | Original | April 20, 1995

This incorporation by reference was approved by the Director of the Federal Register in accordance with 5 U.S.C. 552(a) and 1 CFR part 51. Copies may be obtained from Airbus Industrie, 1 Rond Point Maurice Bellonte, 31707 Blagnac Cedex, France. Copies may be inspected at the FAA, Transport Airplane Directorate, 1601 Lind Avenue, SW., Renton, Washington; or at the Office of the Federal Register, 800 North Capitol Street, NW., suite 700, Washington, DC.

Note 4: The subject of this AD is addressed in French airworthiness directive 2001-303(B), dated July 25, 2001.

Effective Date

(i) This amendment becomes effective on September 22, 2003.

Issued in Renton, Washington, on August 6, 2003.
Neil D. Schalekamp,
Acting Manager, Transport Airplane Directorate, Aircraft Certification Service.

[FR Doc. 03-20713 Filed 8-15-03; 8:45 am]

BILLING CODE 4910-13-P